DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-22 Patent e-Commerce Database.” We invite the public to comment on the system announced in this publication.

DATES: Written comments must be received no later than July 7, 2008. The amendments will become effective as proposed on July 7, 2008, unless the USPTO receives comments that would result in a contrary determination.

ADDRESSES: You may submit written comments by any of the following methods:

E-mail: Susan.Fawcett@uspto.gov.

Fax: (571) 273-0112, marked to the attention of Susan Fawcett.

Mail: Susan K. Fawcett, Records Officer, Office of the Chief Information Officer, Customer Information Services Group, Public Information Services Division, United States Patent and Trademark Office, P.O. Box 1450, Alexandria, VA 22313-1450.

Federal Rulemaking Portal: http://www.regulations.gov.

All comments received will be available for public inspection at the Federal rulemaking portal located at http://www.regulations.gov.

FOR FURTHER INFORMATION CONTACT: Susan K. Fawcett, Records Officer, Office of the Chief Information Officer, Customer Information Services Group, Public Information Services Division, United States Patent and Trademark Office, P.O. Box 1450, Alexandria, VA 22313-1450, (571) 272-5429.

SUPPLEMENTARY INFORMATION: The United States Patent and Trademark Office (USPTO) is giving notice of a new system of records that is subject to the Privacy Act of 1974. The information in this system of records is used to maintain a list of customers who wish to receive patent e-Commerce updates or attend patent e-Commerce events.

The proposed new system of records, “COMMERCE/PAT-TM-22 Patent e-Commerce Database,” is published in its entirety below.

COMMERCE/PAT-TM-22

System name:

Patent e-Commerce Database.

Security classification:

Unclassified.

System location:

Search and Information Resources Administration (SIRA), United States Patent and Trademark Office, 600 Dulany Street, Alexandria, VA 22314.

Categories of individuals covered by the system:

Individuals subscribing to receive patent e-Commerce updates or to attend a patent e-Commerce event.

Categories of records in the system:

Name of subscriber, name of organization, and subscriber's electronic mail address.

Authority for maintenance of the system:

35 U.S.C. 2.

Purpose(s):

The information in this system of records is used to maintain a list of customers who wish to receive patent e-Commerce updates or attend patent e-Commerce events.

Routine uses of records maintained in the system, including categories of users and the purposes of such uses:

See Prefatory Statement of General Routine Uses Nos. 4-5, 9-10, and 13, as found at 46 FR 63501-63502 (December 31, 1981). The USPTO may use the information contained in this system of records to contact customers who have expressed an interest in patent e-Commerce events and updates.

Disclosure to consumer reporting agencies:

Not applicable.

Policies and practices for storing, retrieving, accessing, retaining, and disposing of records in the system:

Storage:

Electronic records in a computer database stored on magnetic storage media.

Retrievability:

Name of subscriber (first and/or last), name of organization, and subscriber's electronic mail address.

Safeguards:

The database is password-protected and can only be accessed by authorized personnel.

Retention and disposal:

Records retention and disposal is in accordance with the series records schedules.

System manager(s) and address:

SIRA Customer Outreach Manager, United States Patent and Trademark Office, P.O. Box 1450, Alexandria, VA 22313-1450.

Notification procedure:

Information about the records contained in this system may be obtained by sending a request in writing, signed, to the SIRA Customer Outreach Manager at the address above. When requesting notification of or access to records covered by this notice, requesters should provide their name and electronic mail address in accordance with the inquiry provisions appearing in 37 CFR 102 subpart B.

Record access procedures:

Requests from individuals should be addressed to the SIRA Customer Outreach Manager at the address above.

Contesting record procedures:

The general provisions for access, contesting contents, and appealing initial determinations by the individual concerned appear in 37 CFR 102 subpart B. Requests from individuals should be addressed to the SIRA Customer Outreach Manager at the address above.

Record source categories:

Subject individuals and those authorized by the individual to furnish information.

Exemptions claimed for the system:

None.

Dated: May 29, 2008.
Susan K. Fawcett,
Records Officer, USPTO, Office of the Chief Information Officer, Customer Information Services Group, Public Information Services Division.

[FR Doc. E8-12564 Filed 6-4-08; 8:45 am]

BILLING CODE 3510-16-P